FEDERAL COMMUNICATIONS COMMISSION

Public Information Collections Approved by Office of Management and Budget

April 20, 2006.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Paul J. Laurenzano, Federal Communications Commission, 445 12th Street, SW., Washington, DC 20554, (202) 418-1359 or via the Internet at plaurenz@fcc.gov.

SUPPLEMENTARY INFORMATION:

OMB Control No.: 3060-0076.

OMB Approval Date: 4/17/2006.

Expiration Date: 9/30/2007.

Title: Common Carrier Annual Employment Report.

Form No.: FCC form 395.

Estimated Annual Burden: 1,100 responses; 1,100 total annual burden hours; 1 hour per respondent.

Needs and Uses: This submission revised an existing collection. The Commission replaced the citation to 47 CFR 21.307 on the FCC form 395, Section V, with the citations to 47 CFR 101.4 and 101.311. The Commission plans to revise reporting classification categories on the FCC form 395 upon implementation of the revised classification categories on the EEOC's EEO-1 report.

OMB Control No.: 3060-0755.

OMB Approval Date: 3/29/2006.

Expiration Date: 3/31/2009.

Title: Sections 59.1 through 59.4, Infrastructure Sharing.

Form No.: N/A.

Estimated Annual Burden: 1,425 responses; 2,325 total annual burden hours; 2-24 hours per respondent.

Needs and Uses: Section 259 requires incumbent LECs to file any arrangements showing the conditions under which they share infrastructure per section 259. Section 259 also requires incumbent LECs to provide information on deployments of new services and equipment to qualifying carriers. The Commission also requires incumbent LECs to provide 60-day notices prior to terminating section 259 agreements.

OMB Control No.: 3060-0400.

OMB Approval Date: 3/30/2006.

Expiration Date: 3/31/2009.

Title: Tariff Review Plan.

Form No.: N/A.

Estimated Annual Burden: 40 responses; 2,440 total annual burden hours; 61 hours per respondent.

Needs and Uses: Certain local exchange carriers are required annually to submit Tariff Review Plans in partial fulfillment of cost support material required by 47 CFR part 61. The information is used by the FCC and the public to determine the justness and reasonableness of rates, terms and conditions in tariffs as required by the Communications Act of 1934, as amended.

OMB Control No.: 3060-0512.

OMB Approval Date: 4/5/2006.

Expiration Date: 4/30/2009.

Title: The ARMIS Annual Summary Report.

Form No.: FCC 43-01.

Estimated Annual Burden: 126 responses; 11,088 total annual burden hours; 88 hours per respondent.

Needs and Uses: This collection was revised to remove one row of data from the report. The Automated Reported Management Information System (ARMIS) was implemented to facilitate the timely and efficient analysis of revenue requirements, rates of return and price caps; to provide an improved basis for audits and other oversight functions; and to enhance the Commission's ability to quantify the effects of alternative policy. The ARMIS Report 43-01 contains financial and operating data and is used to monitor the incumbent local exchange carriers (“ILECs”) and to perform routine analyses of costs and revenues.

Federal Communications Commission.
William F. Caton,
Deputy Secretary.

[FR Doc. E6-6266 Filed 4-25-06; 8:45 am]

BILLING CODE 6712-01-P